DEPARTMENT OF AGRICULTURE

Submission for OMB Review; Comment Request; Reinstatement of a Previously Approved Information Collection

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by May 31, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: National Bioengineered Food Disclosure Standard.

OMB Control Number: 0581-0315.

Summary of Collection: The U.S. Department of Agriculture (USDA) administers the Agricultural Marketing Act of 1946 (Title II of the Act of August 14, 1946). Public Law 114-216 amended the Agricultural Marketing Act of 1946, directing the Secretary of Agriculture to establish the National Bioengineered Food Disclosure Standard (7 CFR 66) for disclosing certain foods that are bioengineered or contain bioengineered ingredients. The final rule (National Bioengineered Food Disclosure Standard [7 CFR 66]) fulfils USDA's need to establish requirements and procedures to carry out the new standard. Public Law 114-216 also addressed Federal preemption of State and local genetic engineering labeling requirements and specifies that certification of food under USDA's National Organic Program (7 CFR 205) were considered sufficient to make claims about the absence of bioengineering in the food. AMS gathered industry input and conducted rulemaking on the National Bioengineered Food Disclosure Standards.

Need and Use of the Information: The audit process involves access to records at the entity's place of business. AMS would examine the records during normal business hours to verify compliance with the standard's disclosure requirements. Under § 66.304(c), if an entity fails to provide AMS access to records, AMS would determine that the entity did not comply and would make the determination public. Companies would know the requirements through a list that AMS will maintain containing bioengineered crops and foods that may be produced in other countries. As set forth in § 66.300, recordkeeping applies to records for food on the list of bioengineered foods. As set forth in § 66.302(a)(3), records would have to be maintained for at least two years after the food's distribution for retail sale.

Description of Respondents: Business or other for-profit; Not for-profit institutions.

Number of Respondents: 155,098.

Frequency of Responses: Recordkeeping; Annually.

Total Burden Hours: 353,952.

Levi S. Harrell,
Departmental Information Collection Clearance Officer.

[FR Doc. 2022-09078 Filed 4-27-22; 8:45 am]

BILLING CODE 3410-02-P